FEDERAL COMMUNICATIONS COMMISSION

47 CFR Part 73

[DA 00-142, MM Docket No. 00-12, RM-9706]

Radio Broadcasting Services; West Rutland, VT

AGENCY: Federal Communications Commission.

ACTION: Proposed rule.

SUMMARY: The Commission requests comments on a petition filed by Great Casco Bay Wireless Talking Machine Limited Liability Company, licensee of Station WTHT, Channel 298C1, Lewiston, ME, to substitute Channel 298A for Channel 298C3 at West Rutland, VT, and the modification of Station WRUT's construction permit for Station WRUT to specify the Class A channel. This action could enable Station WTHT to improve its facilities to 100 kW. Channel 298A can be allotted to West Rutland in compliance with the Commission's minimum distance separation requirements and at the transmitter site specified in Station WRUT's construction permit, 43-34-04 NL; 73-00-30 WL, which is 4.1 kilometers (2.6 miles) southeast of West Rutland. West Rutland is located within 320 kilometers (200 miles) of the U.S.-Canadian border. However, because this is a proposal to downgrade the allotment, notification to but not prior approval of the Canadian government is required.

DATES: Comments must be filed on or before March 23, 2000, and reply comments on or before April 7, 2000.

ADDRESSES: Federal Communications Commission, 445 12th Street, SW, Room TW-A325, Washington, DC 20554. In addition to filing comments with the FCC, interested parties should serve the petitioner, or its counsel or consultant, as follows: Dan J. Alpert, 2120 N. 21st Road, Arlington, VA 22201 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-12, adopted January 19, 2000, and released February 1, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-3635 Filed 2-15-00; 8:45 am]

BILLING CODE 6712-01-P